DEPARTMENT OF COMMERCE

National Oceanic and Atmospheric Administration

RIN 0648-XE652

Caribbean Fishery Management Council; Public Meeting

AGENCY: National Marine Fisheries Service (NMFS), National Oceanic and Atmospheric Administration (NOAA), Commerce.

ACTION: Notice of a public meeting.

SUMMARY: The Caribbean Fishery Management Council (Council) will hold its 156th meeting.

DATES: The meeting will be held on June 28-29, 2016. The Council will convene on Tuesday, June 28, 2016, from 9 a.m. to 5 p.m., and will reconvene on Wednesday, June 29, 2016, from 9 a.m. to 5 p.m.

ADDRESSES: The Buccaneer Hotel, 5007 Shoys, Christiansted, USVI 00820.

FOR FURTHER INFORMATION CONTACT: Caribbean Fishery Management Council, 270 Muñoz Rivera Avenue, Suite 401, San Juan, Puerto Rico 00918, telephone (787) 766-5926.

SUPPLEMENTARY INFORMATION: The Council will hold its 156th regular Council Meeting to discuss the items contained in the following agenda:

June 28, 2016, 9 a.m.-5 p.m.

○ Call to Order

○ Adoption of Agenda

○ Consideration of 155th Council Meeting Verbatim Transcriptions

○ Executive Director's Report

○ SSC Report—Dr. Richard Appeldoorn

○ Island Based FMP Developments Status and Next Steps

Council DRAFT goals and objectives

Action 1—Species to include for federal management

Action 2—Assigning species to complexes

—Working group report

—Council guidance on alternative groupings

Action 3—Developing reference points, including ABCs and ACLs

—ABC Control Rule

—Working group report

—Council guidance on ABC Control Rule structure and alternatives

Action 4—Framework measures

○ Timing of Accountability Measures

New Action 5

Final selection of preferred alternatives

Council direction to staff on next steps, including scheduling public hearings

○ Developing permits for fishing activities in federal waters

Puerto Rico Snapper Unit 2 DRAFT scoping document

St. Thomas USVI spiny lobster white paper

○ AM-based closures—2016 species/species complexes and closure dates

—PUBLIC COMMENT PERIOD—

(5-minutes presentations)

June 28, 2016, 5:15 p.m.-6 p.m.

○ Administrative Matters

—Budget Update FY 16

—Other Administrative Business

—Closed Session

June 29, 2016, 9 a.m.-5 p.m.

—Standing Committee or AP for Recreational Sampling Plan Development

○ Exempting Fishing Permit Application-Puerto Rico Department of Natural and Environmental Resources

○ Presentations:

—Spiny Lobster Project—Carlos Velazquez

—SEFSC: Caribbean Regional Action Plan for the National Climate Science Strategy

○ Outreach and Education Report—Dr. Alida Ortíz

○ MREP Update—Helena Antoun

○ Enforcement Issues:

—Puerto Rico-DNER

—U.S. Virgin Islands-DPNR

—U.S. Coast Guard

—NMFS/NOAA

○ Meetings Attended by Council Members and Staff

—PUBLIC COMMENT PERIOD—

(5-minute presentations)

○ Other Business

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico 00918, telephone (787) 766-5926, at least 5 days prior to the meeting date.

Dated: June 6, 2016.
Tracey L. Thompson,
Acting Deputy Director, Office of Sustainable Fisheries, National Marine Fisheries Service.

[FR Doc. 2016-13652 Filed 6-8-16; 8:45 am]

BILLING CODE 3510-22-P